DEPARTMENT OF HEALTH AND HUMAN SERVICES

Announcement of Solicitation of Written Comments on Proposed Healthy People 2030 Objectives

AGENCY: Department of Health and Human Services, Office of the Secretary, Office of the Assistant Secretary of Health, Office of Disease Prevention and Health Promotion.

ACTION: Notice.

SUMMARY: The U.S. Department of Health and Human Services (HHS) solicits written comments from the public on 12 new objectives proposed to be added to Healthy People 2030, and written comments from the public proposing additional new core, developmental, or research objectives or topics to be included in Healthy People 2030. Public comment informed the development of Healthy People 2030. HHS will provide opportunities for public input periodically throughout the decade to ensure Healthy People 2030 reflects current public health priorities and public input. The updated set of Healthy People 2030 objectives and topics will be incorporated on https://health.gov/healthypeople. This updated set will reflect further review and deliberation by federal Healthy People topic area workgroups, the Federal Interagency Workgroup on Healthy People 2030, and other federal subject matter experts.

DATES: Written comments will be accepted through 11:59 p.m. ET, October 31, 2024.

ADDRESSES: Written comments should be submitted by email to HP2030Comment@hhs.gov.

FOR FURTHER INFORMATION CONTACT: Erik Orta, Office of Disease Prevention and Health Promotion, U.S. Department of Health and Human Services, 1101 Wootton Parkway, Suite 420, Rockville, MD 20852; Phone: 240-268-0823; Email: HP2030@hhs.gov.

SUPPLEMENTARY INFORMATION: Since 1980, Healthy People has provided a comprehensive set of national health promotion and disease prevention objectives with 10-year targets aimed at improving the health of all. Healthy People 2030 objectives present a picture of the nation's health at the beginning of the decade, establish national goals and targets to be achieved by the year 2030, and monitor progress over time. The U.S. Department of Health and Human Services (HHS) is soliciting the submission of written comments regarding 12 new objectives proposed to be added to the current set of Healthy People 2030 objectives. The public is also invited to submit proposals for additional new core, developmental, or research objectives that meet the criteria outlined below.

Healthy People 2030 is the product of an extensive collaborative process that relies on input from a diverse array of individuals and organizations, both within and outside the federal government, with a common interest in improving the nation's health. Public comments were a cornerstone of Healthy People 2030's development. During the first phase of planning for Healthy People 2030, HHS asked for the public's comments on the initiative's vision, mission, and overarching goals. Those comments helped set the framework for Healthy People 2030. The public was also invited to submit comments on proposed Healthy People 2030 objectives, which helped shape the current set of Healthy People 2030 objectives.

The public now is invited to comment on 12 new objectives proposed to be added to Healthy People 2030. These new objectives were developed by Healthy People topic area workgroups led by various agencies within the Federal Government. They have been reviewed by the Federal Interagency Workgroup on Healthy People 2030 and are presented now for the public's review and comment. They are:

1. CKD-NEW-11: Increase the proportion of people with chronic kidney disease and diabetes who receive glucose-lowering medications based on the most recent guidelines. This objective is new to Healthy People 2030. Data source: National Health and Nutrition Examination Survey (NHANES).

2. CKD-NEW-12: Increase the proportion of people with chronic kidney disease and severe albuminuria who receive glucose-lowering medications based on the most recent guidelines. Data source: National Health and Nutrition Examination Survey (NHANES).

3. ECBP-NEW-02: Increase the proportion of medical schools that include environmental health content in a required learning experience. Data source: American Association of Colleges of Osteopathic Medicine (AACOM) and Association of American Medical Colleges (AAMC) (2022 Annual Osteopathic Medical School Questionnaire and Liaison Committee on Medical Education (LCME); Annual Medical School Questionnaire Part II).

4. ECBP-NEW-03: Increase the proportion of undergraduate nursing and graduate nurse practitioner training programs that include environmental health content in a required learning experience. Data source: American Association of Colleges of Nursing (AACN) and National Organization of Nurse Practitioner Faculties (NONPF) (2022 American Association of Colleges of Nursing Healthy People 2030 Curriculum Survey; 2022 National Organization of Nurse Practitioner Faculties Healthy People 2030 Curriculum Survey).

5. ECBP-NEW-04: Increase the proportion of physician assistant (PA) training programs that include environmental health content in a required learning experience. Data source: Physician Assistant Education Association (PAEA) (2022 Physician Assistant Education Association Healthy People 2030 Survey).

6. ECBP-NEW-05: Increase the proportion of colleges and schools of pharmacy with Doctor of Pharmacy (PharmD) degree programs that include environmental health content in a required learning experience. Data source: American Association of Colleges of Pharmacy (AACP) (2022 American Association of Colleges and Pharmacy Healthy People 2030 Survey).

7. ECBP-NEW-06: Increase the proportion of colleges and schools of dentistry with Doctor of Dental Surgery (DDS) and/or Doctor of Dental Medicine (DMD) degree programs that include environmental health content in a required learning experience. Data source: American Dental Education Association (ADEA) (2022 ADEA Healthy People 2030 Survey).

8. EH-NEW-12: Reduce deaths related to heat. This objective is currently a development objective, EH-D02. Data source: National Vital Statistics System—Mortality.

9. HOSCD-NEW-13: Increase the proportion of adults with communication disorders of voice, swallowing, speech, or language who have seen a health care specialist for evaluation or treatment in the past 12 months. Data source: National Health Interview Survey (NHIS), CDC/NCHS.

10. IID-NEW-18: Increase the proportion of pregnant women who receive 1 dose of the tetanus-diphtheria-acellular pertussis (Tdap) vaccine during pregnancy. Data source: National Health Interview Survey (NHIS), CDC/NCHS.

11. IID-NEW-19: Increase the proportion of adults who receive the recommended age-appropriate vaccine. Data source: National Health Interview Survey (NHIS), CDC/NCHS.

12. MICH-NEW-21: Reduce the rate of hypertension in pregnancy (preexisting and pregnancy-associated hypertension) among delivery hospitalizations. Data source: Healthcare Cost and Utilization Project—National (Nationwide) Inpatient Sample (HCUP-NIS), Agency for Healthcare Research and Quality (AHRQ).

The public also is invited to provide comment on the current Healthy People 2030 objectives and propose additional core, developmental, or research objectives for consideration that address critical public health issues. Proposed new objectives must meet all the objective selection criteria (see below). The public is also invited to propose new topics to be considered for inclusion in Healthy People 2030.

Objective Selection Criteria

Core Objectives

Core objectives must meet the following five criteria to be included in Healthy People 2030. Core objectives should (1) have a reliable, nationally representative data source with baseline data no older than 2015; (2) have at least two additional data points beyond the baseline during the decade; (3) be of national importance; (4) have effective, evidence-based interventions available to achieve the objective; and (5) have data to help address disparities and achieve health equity.

Developmental Objectives

Developmental objectives will have the following characteristics: (1) represent high priority issues; (2) do not have reliable baseline data yet; and (3) have evidence-based interventions available.

Research Objectives

Research objectives will have the following characteristics: (1) represent key opportunities to make progress in areas with limited prior research, a high health or economic burden, or significant disparities between population groups; (2) may or may not have reliable baseline data; and (3) do not have evidence-based interventions available.

Written comments and evidence-based information should be submitted by email to HP2030Comment@hhs.gov by 11:59 p.m. ET on October 31, 2024. Comments received in response to this notice will be reviewed and considered by the Healthy People topic area workgroups, Federal Interagency Workgroup on Healthy People 2030, and other federal subject matter experts.

Paul Reed,
Deputy Assistant Secretary for Health, Office of Disease Prevention and Health Promotion.

[FR Doc. 2024-22519 Filed 9-30-24; 8:45 am]

BILLING CODE 4150-32-P